CONSUMER PRODUCT SAFETY COMMISSION

Sunshine Act Meetings

Time and Date: Wednesday, February 10, 2010, 9 a.m.-12 Noon.

Place: Hearing Room 420, Bethesda Towers, 4330 East-West Highway, Bethesda, Maryland.

Status: Open to the Public—Commission Briefing.

Matter To Be Considered: Unblockable Drains/Minimum State Requirements for Grants/Public Accommodations-Virginia Graeme Baker Pool and Spa Safety Act.

For a recorded message containing the latest agenda information, call (301) 504-7948.

Contact Person for More Information: Todd A. Stevenson, Office of the Secretary, U.S. Consumer Product Safety Commission, 4330 East-West Highway, Bethesda, MD 20814, (301) 504-7923.

Dated: February 2, 2010.
Todd A. Stevenson,
Secretary.

[FR Doc. 2010-2811 Filed 2-9-10; 8:45 am]

BILLING CODE 6355-01-M